DEPARTMENT OF COMMERCE

Foreign-Trade Zones Board

[Docket 37-2000]

Foreign-Trade Zone 34—Niagara County, New York Application for Expansion

An application has been submitted to the Foreign-Trade Zones Board (the Board) by the County of Niagara, New York, grantee of FTZ 34, requesting authority to expand its general-purpose zone site to include an additional parcel in Wheatfield, New York. The application was submitted pursuant to the provisions of the Foreign-Trade Zones Act, as amended (19 U.S.C. 81a-81u), and the regulations of the Board (15 CFR Part 400). It was formally filed on July 17, 2000.

FTZ 34 was approved on November 29, 1977 (Board Order 125, 42 FR 61489, 12/5/77), relocated on January 27, 1983 (Board Order 203, 48 FR 5771, 2/8/83), and expanded on October 28, 1993 (Board Order 662, 58 FR 59236, 11/8/93). The zone project currently consists of 183 acres at the Niagara Falls International Airport in Niagara County (Town of Wheatfield), New York.

The applicant is now requesting authority to expand the existing zone site to include the Vantage International Pointe Industrial Park (158 acres) located at 6300 Lockport Road, Wheatfield, adjacent to the airport site. The park is owned by the Niagara County Industrial Development Agency. No specific manufacturing requests are being made at this time. Such requests would be made to the Board on a case-by-case basis.

In accordance with the Board's regulations, a member of the FTZ Staff has been designated examiner to investigate the application and report to the Board.

Public comment is invited from interested parties. Submissions (original and 3 copies) shall be addressed to the Board's Executive Secretary at the address below. The closing period for their receipt is September 25, 2000. Rebuttal comments in response to material submitted during the foregoing period may be submitted during the subsequent 15-day period (to October 9, 2000).

A copy of the application and accompanying exhibits will be available for public inspection at each of the following locations:

U.S. Department of Commerce, Export Assistance Center 111 West Huron Street, Room 1304, Buffalo, NY 14202.

Office of the Executive Secretary, Foreign-Trade Zones Board, U.S. Department of Commerce, 14th & Pennsylvania Avenue, NW, Washington, DC 20230.

Dated: July 18, 2000.
Dennis Puccinelli,
Executive Secretary.

[FR Doc. 00-18807 Filed 7-24-00; 8:45 am]

BILLING CODE 3510-DS-P